DEPARTMENT OF AGRICULTURE

Animal and Plant Health Inspection Service

[Docket No. 04-053-1]

Horse Protection Technology Meeting; Animal Care

AGENCY: Animal and Plant Health Inspection Service, USDA.

ACTION: Notice of meeting.

SUMMARY: We are giving notice to horse industry members and other interested persons that Animal Care will host a series of educational meetings to present current information on new technology being explored for use in the enforcement of the Horse Protection Act. This notice provides the agenda for the meetings, information on the location and dates of the first meeting, and general information on subsequent meetings.

DATES: The first meeting will be held in Lexington, KY, on June 29, 2004. Registration will take place from 7:30 a.m. to 8:30 a.m. The meeting will begin at 8 a.m. and end at noon. Additional meetings are being planned for July through October 2004, for Tennessee, Missouri, and Oregon.

ADDRESSES: The meeting will be held at the Four Points Sheraton, 1938 Stanton Way, Lexington, KY 40511, (859) 259-1311.

FOR FURTHER INFORMATION CONTACT: Mr. James Tuck, Management Analyst, PPD, APHIS, 4700 River Road, Riverdale, MD 20737; (301) 734-5819.

SUPPLEMENTARY INFORMATION: The Animal and Plant Health Inspection Service (APHIS), Animal Care, is announcing a series of educational meetings on the new technology being tested to enforce the Horse Protection Act. The meetings are designed to provide a forum for information dissemination on various topics that are important for the horse industry to understand. This series of meetings will be held in various geographical locations to facilitate attendance by most of our regulated parties that maintain horses.

The first meeting will be held on Tuesday, June 29, 2004, at the Four Points Sheraton, Lexington, KY. Additional meetings are being planned for July through October 2004, for Tennessee, Missouri, and Oregon.

The series of meetings have been developed to provide current information and ideas on a variety of technological innovations Animal Care is testing to assist in the enforcement of the Horse Protection Act. Each meeting will, with the exception of possible minor modifications, follow the same agenda:

7:30 a.m.-8:30 a.m.—Registration

8:00 a.m.-8:45 a.m.—Welcome Overview

8:45 a.m.-9:30 a.m.—Thermography Technology

9:45 a.m.-10:45 a.m.—Sniffer Technology

10:45 a.m.-Noon—Other Horse Protection Enforcement Issues

Meeting notices are also available on the Animal Care Web site at http://www.aphis.usda.gov/ac.

Please note that these meetings are being held to provide and disseminate information on the technology being tested by Animal Care to enforce the Horse Protection Act and is not an opportunity to submit formal comments on proposed rules or other regulatory initiatives.

Pre-registration is requested by calling (301) 734-7833, or emailing Animal Care at ACE@aphis.usda.gov and providing your name, number of attendees, phone number, email address or other contact address. This information is needed in the event of any changes to the meeting schedule so we may inform registrants in a timely manner. Please pre-register for the meeting by June 28, 2004.

Done in Washington, DC, this 21st day of June, 2004.
Kevin Shea,
Acting Administrator, Animal and Plant Health Inspection Service.

[FR Doc. 04-14434 Filed 6-24-04; 8:45 am]

BILLING CODE 3410-34-P